NATIONAL AERONAUTICS AND SPACE ADMINISTRATION

5 CFR Part 6901

RINs 2700-AC45, 3209-AA15

Supplemental Standards of Ethical Conduct for Employees of the National Aeronautics and Space Administration

AGENCY: National Aeronautics and Space Administration (NASA).

ACTION: Final rule; amendment.

SUMMARY: NASA, with the concurrence of the Office of Government Ethics (OGE), is amending its supplemental standards of ethical conduct to remove the designations of officials authorized to perform ethics-related functions. In a separate rulemaking, NASA is adding revised designations to its 14 CFR part 1207 conduct regulations.

EFFECTIVE DATE: November 27, 2001.

ADDRESSES: Code GG, NASA Headquarters, Washington, DC 20546-0001.

FOR FURTHER INFORMATION CONTACT: Laurie P. Rafferty, Senior Ethics Attorney, NASA Headquarters, (202) 358-2028.

SUPPLEMENTARY INFORMATION:

I. Background

Section 2635.105 of 5 CFR authorizes executive branch agencies, with the concurrence of OGE, to publish supplemental regulations necessary to implement their respective ethics programs. In 1994, NASA, with OGE's concurrence, established supplemental standards of ethical conduct for NASA employees. See 59 FR 49335-49338 (Sept. 28, 1994), as codified at 5 CFR part 6901. At the same time, NASA repealed much of its preexisting Standards of Conduct regulation at 14 CFR part 1207, and limited its coverage to conflict of interest waiver procedures under 18 U.S.C. 208 and post-employment procedures under 18 U.S.C. 207(j)(5).

NASA, with OGE's concurrence, now amends its supplemental standards of conduct by removing (and reserving) § 6901.102, which contains the designations of NASA officials authorized to make ethics-related determinations. These internal NASA designations are better covered in NASA's conduct regulations at 14 CFR part 1207. By separate publication in the Federal Register, NASA is issuing amended designations at new § 1207.103 of 14 CFR. Moreover, in this rulemaking NASA is correcting a miscitation in the authority citation of the supplemental standards.

II. Matters of Regulatory Procedure

Administrative Procedure Act

Pursuant to 5 U.S.C. 553(a)(2), (b), and (d), NASA has determined that good cause exists for waiving the regular notice of proposed rulemaking, opportunity for public comments, and 30-day delayed effective date for this final rule amendment. This action is being taken because it is in the public interest that this rule, which concerns matters of agency management, personnel, organization, practice and procedure, be effective on the date of publication.

Small Entities

Under the Regulatory Flexibility Act (5 U.S.C. 601-612), NASA has considered whether this rule would have a significant economic impact on a substantial number of small entities. The term “small entities” comprises small businesses, not-for-profit organizations that are independently owned and operated and are not dominant in their fields, and governmental jurisdictions with populations of less than 50,000. Pursuant to 5 U.S.C. 605(b), NASA certifies that this rule will not have a significant economic impact on a substantial number of small entities because the rule only affects the operations of NASA and its employees. Accordingly, no regulatory flexibility analysis is required.

Executive Order 12866 Determination

This rule is not a “significant regulatory action” under section 3(f) of Executive Order 12866, Regulatory Planning and Review, is not subject to review under section 3(d) of that Order because it is limited to NASA's organization, management and/or personnel matters, and does not require an assessment of potential costs and benefits under section 6(a)(3) of that Order. The Office of Management and Budget has not reviewed it under that Order.

Collection of Information

This rule calls for no new collection of information under the Paperwork Reduction Act (44 U.S.C. 3501-3520).

Federalism

A rule has implications for federalism under Executive Order 13132, Federalism, if it has a substantial direct effect on State or local governments and would either preempt State law or impose a substantial direct cost of compliance on them. NASA has analyzed this rule under that Order and has determined that it does not have implications for federalism.

Unfunded Mandates Reform Act

Title II of the Unfunded Mandates Reform Act of 1995 (2 U.S.C. 1531-1538) requires Federal agencies to assess the effects of their discretionary regulatory actions. NASA has determined that the rule will not result in expenditures by State, local, or tribal governments or by the private sector of $100 million or more. The rule affects only the internal organization of NASA. Accordingly, NASA has not prepared a budgetary impact statement or specifically addressed regulatory alternatives.

List of Subjects in 5 CFR Part 6901

Conflict of interests, Ethical conduct, Government employees, Organization and functions (Government agencies).

Dated: November 5, 2001.
Daniel S. Goldin,
Administrator, National Aeronautics and Space Administration.

Approved: November 9, 2001.
Amy L. Comstock,
Director, Office of Government Ethics

For the reasons discussed in the preamble, NASA, with the concurrence of OGE, amends 5 CFR part 6901 as follows:

PART 6901—SUPPLEMENTAL STANDARDS OF ETHICAL CONDUCT FOR EMPLOYEES OF THE NATIONAL AERONAUTICS AND SPACE ADMINISTRATION

1. The authority citation for part 6901 is revised to read as follows:

Authority: 5 U.S.C. 7301; 5 U.S.C. App. (Ethics in Government Act of 1978); 42 U.S.C. 2473(c)(1); E.O. 12674, 54 FR 15159, 3 CFR, 1989 Comp., p. 215, as modified by E.O. 12731, 55 FR 42547, 3 CFR, 1990 Comp., p. 306; 5 CFR 2635.105, 2635.403(a), 2635.802(a), 2635.803.

§ 6901.102 [Removed and Reserved]

2. Section § 6901.102 is removed and reserved.

[FR Doc. 01-29424 Filed 11-26-01; 8:45 am]

BILLING CODE 7510-01-P